DEPARTMENT OF COMMERCE

International Trade Administration

[A-533-810]

Stainless Steel Bar From India: Final Results and Rescission, in Part, of Antidumping Duty Administrative Review; 2023-2024

AGENCY: Enforcement and Compliance, International Trade Administration, Department of Commerce.

SUMMARY: The U.S. Department of Commerce (Commerce) determines that certain producers/exporters of stainless steel bar (SS Bar) from India made sales at prices below normal value during the period of review (POR), February 1, 2023, through January 31, 2024.

DATES: Applicable February 18, 2026.

FOR FURTHER INFORMATION CONTACT: Hermes Pinilla, AD/CVD Operations, Office I, Enforcement and Compliance, International Trade Administration, U.S. Department of Commerce, 1401 Constitution Avenue NW, Washington, DC 20230; telephone: (202) 482-3477.

SUPPLEMENTARY INFORMATION:

Background

On June 11, 2025, Commerce published in the Federal Register the Preliminary Results of the 2023-2024 administrative review of the antidumping duty (AD) order on SS Bar from India.¹ On August 5, 2025, we issued the Post-Preliminary Results of this administrative review.² On August 6, 2025, we invited interested parties to comment on the Preliminary Results and on the Post-Preliminary Results, in which Commerce revised the differential pricing methodology.³ On September 18, 2025, we extended the deadline for issuing the final results of administrative review by 57 days to December 5, 2025.⁴ Due to the lapse in appropriations and Federal Government shutdown, on November 14, 2025, Commerce tolled all deadlines in administrative proceedings by 47 days.⁵ Additionally, due to a backlog of documents that were electronically filed via Enforcement and Compliance's Antidumping and Countervailing Duty Centralized Electronic Service System (ACCESS) during the Federal Government shutdown, on November 24, 2025, Commerce tolled all deadlines in administrative proceedings by an additional 21 days.⁶ Accordingly, the deadline for these final results is now February 11, 2026.

¹ See Stainless Steel Bar from India: Preliminary Results and Intent to Rescind, In Part, of Antidumping Duty Administrative Review; 2023-2024, 90 FR 24566 (June 11, 2025) (Preliminary Results), and accompanying Preliminary Decision Memorandum (PDM).

² See Memorandum, “Post-Preliminary Analysis for the Administrative Review of the Antidumping Duty Order on Stainless Steel Bar from India,” dated August 5, 2025 (Post-Preliminary Results).

³ See Memorandum, “Deadlines for Case and Rebuttal Briefs,” dated August 6, 2025; see also Memorandum, “Extension of Deadlines for Case and Rebuttal Briefs,” dated August 11, 2025.

⁴ See Memorandum, “Extension of Deadline for Final Results of Antidumping Duty Administrative Review; 2023-2024,” dated September 18, 2025.

⁵ See Memorandum, “Deadlines Affected by the Shutdown of the Federal Government,” dated November 14, 2025.

⁶ See Memorandum, “Tolling of all Case Deadlines,” dated November 24, 2025.

For a complete description of the events that occurred since the Preliminary Results, see the Issues and Decision Memorandum.⁷ Commerce conducted this review in accordance with section 751(a) of the Tariff Act of 1930, as amended (the Act).

⁷ See Memorandum, “Issues and Decision Memorandum for the Final Results of the Antidumping Duty Administrative Review of Stainless Steel Bar from India; 2023-2024,” dated concurrently with, and hereby adopted by, this notice (Issues and Decision Memorandum).

Scope of the Order ⁸

⁸ See Antidumping Duty Orders: Stainless Steel Bar from Brazil, India and Japan, 60 FR 9661 (February 21, 1995) (Orders).

The products covered by the Order are SS Bar from India. A full description of the scope of the Order is contained in the Issues and Decision Memorandum.⁹

⁹ See Issues and Decision Memorandum.

Analysis of Comments Received

All issues raised in the case and rebuttal briefs filed by parties in this review are listed in the appendix to this notice and addressed in the Issues and Decision Memorandum. The Issues and Decision Memorandum is a public document and is on file electronically via ACCESS. ACCESS is available to registered users at https://access.trade.gov. In addition, a complete version of the Issues and Decision Memorandum can be accessed at https://access.trade.gov/public/FRNoticesListLayout.aspx.

Changes Since the Preliminary Results and Post-Preliminary Results

Commerce evaluated the comments in the case and rebuttal briefs and made no changes from the Preliminary Results or Post-Preliminary Results. For a more detailed discussion of the issues raised by parties, see the Issues and Decision Memorandum.

Rescission of Administrative Review, in Part

As explained in the Preliminary Results, Commerce received a request for review of Bhansali Bright Bars (Bhansali) and Chandan Steels Limited (Chandan).¹⁰ On April 22, 2024, Commerce placed U.S. Customs and Border Protection (CBP) entry data for U.S. imports of subject merchandise during the POR on the record for respondent selection purposes, which reflected no entries from Bhansali and Chandan.¹¹

¹⁰ See Memorandum, “Antidumping Duty Administrative Review of Stainless Steel Bar from India: Respondent Selection,” dated May 17,2024.

¹¹ See Memorandum, “U.S. Customs and Border Protection (CBP) Data Release,” dated April 22, 2024.

Pursuant to 19 CFR 351.213(d)(3), it is Commerce's practice to rescind an administrative review of an AD order where it determines that there were no suspended entries of subject merchandise during the POR. Normally, upon completion of an administrative review, the suspended entries are liquidated at the AD assessment rate for the review period.¹² Therefore, for an administrative review to be conducted, there must be a suspended entry that Commerce can instruct CBP to liquidate at the calculated AD assessment rate for the review period.¹³

¹² See, e.g., Certain Carbon and Alloy Steel Cut-to-Length Plate from the Federal Republic of Germany: Rescission of Antidumping Administrative Review; 2020-2021, 88 FR 4157 (January 24, 2023).

¹³ See, e.g., Shanghai Sunbeauty Trading Co. v. United States, 380 F. Supp. 3d 1328, 1335-36 (CIT 2019) (referring to section 741(a) of the Act, the U.S. Court of International Trade (CIT) held that: “While the statute does not explicitly require that an entry be suspended as a prerequisite for establishing entitlement to a review, it does explicitly state the determined rate will be used as the liquidated rate for the review entries. This result can only obtain if the liquidation of entries has been suspended”); see also Certain Frozen Fish Fillets from the Socialist Republic of Vietnam: Final Results of Antidumping Duty Administrative Review And Final Determination of No Shipments; 2018-2019, 86 FR 36102 (July 8, 2021), and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

We provided interested parties with an opportunity to submit comments on our intent to rescind, in part, the administrative review concerning Bhansali and Chandan.¹⁴ We did not receive any comments from interested parties concerning our intent to rescind, in part, the administrative review concerning Bhansali and Chandan. Accordingly, in the absence of reviewable, suspended entries of subject merchandise during the POR, we are rescinding this administrative review for Bhansali and Chandan, in accordance with 19 CFR 351.213(d)(3).

¹⁴ See Preliminary Results PDM at 4.

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available. Where the rates for individually investigated companies are all zero or de minimis, or determined entirely using facts otherwise available, section 735(c)(5)(B) of the Act instructs Commerce to rely on “any reasonable method to establish the estimated all-others rate for exporters and producers not individually investigated, including averaging the estimated weighted-average dumping margins determined for exporters and producers individually investigated.”

In this review, for the final results, Commerce determined to apply adverse facts available (AFA) to Atlas Stainless Corporation Private Limited (Atlas), pursuant to section 776 of the Act, and assigned it a 30.92 percent dumping margin, and calculated an estimated weighted-average dumping margin for Aamor Inox Limited (Aamor) of 0.00 percent. Thus, for the final results, we applied to the non-examined companies, Ambica Steels Limited, Laxcon Steels Limited and its affiliates, Ocean Steels Private Limited, Metlax International Private Limited, Parvati Private Limited, Mega Steels Private Limited, and Meltroll Engineering Pvt. Ltd., the rate of 15.46 percent, which is the simple average of the rate we calculated for Aamor and the dumping margin we have assigned to Atlas, determined entirely under section 776 of the Act.¹⁵

¹⁵ See Baroque Timber Indus. (Zhonghan) Co. v. United States, 971 F. Supp. 2d 1333, 1341 (CIT 2014) (“it is not per se unreasonable for Commerce to use a simple average of zero and AFA rates to calculate the separate rate”); see also Solianus, Inc. v. United States, 391 F. Supp. 3d 1331, 1339 (CIT 2019).

Final Results of Review

We determine that the following weighted-average dumping margins exist for the period February 1, 2023, through January 31, 2024:

¹⁶ Record information indicates that Astrabright LLP., and Astrabite LLP., are the same company and therefore, we are assigning the same rate to Astrabright LLP., and Astrabite LLP. For further details, see Issues and Decision Memorandum at Comment 2.

¹⁷ Collectively, these companies are known as Laxcon.

Producer/exporter | Weighted-average dumping margin (percent)
Aamor Inox Limited | 0.00
Atlas Stainless Corporation Private Limited, Astrabright LLP., Astrabite LLP.,¹⁶ Bahubali Steel Industries, Eurostahl Tech LLP, Venus Metal Corporation, Venus Wire Industries Pvt. Ltd., Precision Metals, Hindustan Inox Ltd., and Sieves Manufacturers (India) Pvt. Ltd | * 30.92
Review-Specific Rates for Non-Examined Companies
Ambica Steels Limited | 15.46
Laxcon Steels Limited, and its affiliates, Ocean Steels Private Limited, Metlax International Private Limited, Parvati Private Limited, and Mega Steels Private Limited ¹⁷ | 15.46
Meltroll Engineering Pvt. Ltd | 15.46
* This rate is based on facts available with adverse inferences.

Disclosure

Normally, Commerce will disclose the calculations performed in connection with the final results to parties in the proceeding within five days of the date of public announcement or, if there is no public announcement, within five days of the date of publication of the final results in the Federal Register, in accordance with 19 CFR 351.224(b). However, because we have made no changes to the Post-Preliminary Results, regarding our margin calculation for Aamor, there are no new calculations to disclose.

Assessment Rates

Pursuant to section 751(a)(2)(C) of the Act and 19 CFR 351.212(b), Commerce shall determine, and CBP shall assess, antidumping duties on all appropriate entries of subject merchandise in accordance with the final results of this review. For any individually examined respondents whose weighted-average dumping margin is above de minimis, we calculated importer-specific ad valorem duty assessment rates based on the ratio of the total amount of antidumping duties calculated for the examined sales to the total entered value of the examined sales to that importer, and we will instruct CBP to assess antidumping duties on all appropriate entries covered by this. Where either the respondent's weighted-average dumping margin is zero or de minimis within the meaning of 19 CFR 351.106(c)(1), or an importer-specific assessment rate is zero or de minimis, we will instruct CBP to liquidate the appropriate entries without regard to antidumping duties.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review in the Federal Register, as provided for by section 751(a)(2) of the Act: (1) the cash deposit rate for companies subject to this review will be the rates established in these final results of the review; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 12.45 percent,¹⁸ the all-others rate established in the investigation. These cash deposit requirements, when imposed, shall remain in effect until further notice.

¹⁸ See Order at 66921.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: February 11, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes From the Preliminary Results and Post-Preliminary Results

V. Discussion of the Issues

Comment 1: Whether to Rescind the Review of Chandan Steels Limited (Chandan)

Comment 2: Whether to Assign Astrabite LLP the Same Rate as Astrabright LLP

Comment 3: Whether to Find Atlas to be Affiliated with Hindustan Inox Limited (Hindustan) and Sieves Manufactures (India) Private Limited (Sieves)

Comment 4: Whether to Collapse Atlas with Hindustan and Sieves

Comment 5: Whether to Apply Total Adverse Facts Available (AFA) to Atlas

Comment 6: Whether to Apply Commerce's New Differential Pricing Methodology

Comment 7: Whether to Calculate the Non-Selected Respondents' Rate Based on the Mandatory Respondents' Rates

VI. Recommendation

[FR Doc. 2026-03103 Filed 2-17-26; 8:45 am]

BILLING CODE 3510-DS-P